ENVIRONMENTAL PROTECTION AGENCY

[ER-FRL-9017-9]

Environmental Impact Statements; Notice of Availability

Responsible Agency: Office of Federal Activities, General Information (202) 564-7146 or http://www.epa.gov/compliance/nepa/.

Weekly receipt of Environmental Impact Statements.

Filed 11/03/2014 Through 11/07/2014.

Pursuant to 40 CFR 1506.9.

Notice: Section 309(a) of the Clean Air Act requires that EPA make public its comments on EISs issued by other Federal agencies. EPA's comment letters on EISs are available at: http://www.epa.gov/compliance/nepa/eisdata.html.

EIS No. 20140321, Final EIS, NRC, MO, Generic—License Renewal of Nuclear Plants, Supplement 51 Regarding Callaway Plant, Unit 1, review period ends: 12/15/2014, Contact: Tam Tran 301-415-3617.

EIS No. 20140322, Final EIS, USFS, MT, Cedar-Thom Project, review period ends: 12/29/2014, Contact: Patricia Partyka 406-826-4314.

EIS No. 20140323, Final EIS, NPS, NV, Cottonwood Cove and Katherine Landing Final Development Concept Plans, review period ends: 12/15/2014, Contact: Greg Jarvis 303-969-2263.

EIS No. 20140324, Second Final EIS (Tiering), NASA, FL, Tier 2—Mars 2020 Mission, review period ends: 12/15/2014, Contact: George Tahu 202-358-0016.

EIS No. 20140325, Draft EIS, FRA, CA, Coast Corridor Improvements, comment period ends: 01/07/2015, Contact: Stephanie Perez 202-493-0388.

EIS No. 20140326, Draft EIS, FHWA, WI, I-94 East-West Corridor, comment period ends: 01/13/2015, Contact: George Poirier 608-829-7500.

EIS No. 20140327, Draft EIS, FERC, OR, Jordan Cove Energy and Pacific Connector Gas Pipeline Project, comment period ends: 02/13/2015, Contact: Paul Friedman 202-502-8059.

EIS No. 20140328, Draft Supplement, USFS, NM, North Fork Wells of Eagle Creek, comment period ends: 12/29/2014, Contact: David M. Warnack 575-257-4095.

EIS No. 20140329, Draft EIS, USFS, OR, Lower Joseph Creek Restoration Project, comment period ends: 02/12/2015, Contact: Ayn Shlisky 541-278-3762.

Amended Notices:

EIS No. 20140293, Draft EIS, NMFS, 00, Omnibus Essential Fish Habitat Amendment 2, comment period ends: 01/08/2015, Contact: John K. Bullard 978-281-9315.

Revision to FR Notice Published 10/10/2014; extending comment period from 12/09/2014 to 01/08/2015

Dated: November 10, 2014.
Cliff Rader,
Director, NEPA Compliance Division, Office of Federal Activities.

[FR Doc. 2014-27023 Filed 11-13-14; 8:45 am]

BILLING CODE 6560-50-P